DEPARTMENT OF LABOR

Mine Safety and Health Administration

Summary of Decisions Granting in Whole or in Part Petitions for Modification

AGENCY: Mine Safety and Health Administration (MSHA), Labor.

ACTION: Notice of affirmative decisions issued by the Administrators for Coal Mine Safety and Health and Metal and Nonmetal Mine Safety and Health on petitions for modification of the application of mandatory safety standards.

SUMMARY: Under section 101 of the Federal Mine Safety and Health Act of 1977, the Secretary of Labor (Secretary) may allow the modification of the application of a mandatory safety standard to a mine if the Secretary determines either that an alternate method exists at a specific mine that will guarantee no less protection for the miners affected than that provided by the standard, or that the application of the standard at a specific mine will result in a diminution of safety to the affected miners.

Final decisions on these petitions are based upon the petitioner's statements, comments and information submitted by interested persons, and a field investigation of the conditions at the mine. MSHA, as designee of the Secretary, has granted or partially granted the requests for modification listed below. In some instances, the decisions are conditioned upon compliance with stipulations stated in the decision. The term FR Notice appears in the list of affirmative decisions below. The term refers to the Federal Register volume and page where MSHA published a notice of the filing of the petition for modification.

FOR FURTHER INFORMATION CONTACT: Petitions and copies of the final decisions are available for examination by the public in the Office of Standards, Regulations, and Variances, MSHA, 1100 Wilson Boulevard, Room 2352, Arlington, Virginia 22209. Contact Barbara Barron at 202-693-9447.

Dated at Arlington, Virginia, this 7th day of November, 2002.
Marvin W. Nichols, Jr.,
Director, Office of Standards, Regulations, and Variances.

Affirmative Decisions on Petitions for Modification

Docket No.: M-2002-009-C.

FR Notice: 67 FR 13196.

Petitioner: M & H Coal Company.

Regulation Affected: 30 CFR 75.1100-2(a)(2).

Summary of Findings: Petitioner's proposal is to use only portable fire extinguishers to replace existing requirements where rock dust, water cars, and other water storage equipped with three (3) ten quart pails is not practical; and to use two (2) fire extinguishers near the slope bottom and an additional portable fire extinguisher within 500 feet of the working face for equivalent fire protection. This is considered an acceptable alternative method for the Mercury Slope Mine. MSHA grants the petition for modification for the Mercury Slope Mine with conditions.

Docket No.: M-2002-014-C.

FR Notice: 67 FR 14977.

Petitioner: Laurel Creek Company, Inc.

Regulation Affected: 30 CFR 75.503 [18.41(f) of Part 18].

Summary of Findings: Petitioner's proposal is to use a permanently installed spring-loaded locking device on battery plug connectors, for mobile battery-powered machines used inby the last open crosscut, in lieu of a padlock to prevent the plug connector from accidental disengaging while under load; to install a warning tag that states “Do Not Disengage Under Load” on all battery plug connectors; and to instruct all persons who operate or maintain the battery-powered machines on the safe practices and provisions for complying with its proposed alternative method. This is considered an acceptable alternative method for the Mine No. 4. MSHA grants the petition for modification for the Mine No. 4 with conditions.

Docket No.: M-2002-025-C.

FR Notice: 67 FR 14978.

Petitioner: Rosebud Mining Company.

Regulation Affected: 30 CFR 75.1100-2(e)(2).

Summary of Findings: Petitioner's proposal is to use two (2) fire extinguishers or one fire extinguisher of twice the required capacity at all temporary electrical installations in lieu of using 240 pounds of rock dust. This is considered an acceptable alternative method for the Logansport Mine. MSHA grants the petition for modification for the temporary electrical installations provided the petitioner maintains two portable fire extinguishers having at least the minimum capacity specified for a portable fire extinguisher in 30 CFR 75.1100-1(e) at each of the temporary electrical installations at the Logansport Mine.

Docket No.: M-2002-032-C.

FR Notice: 67 FR 19285.

Petitioner: Fools Gold Energy Corporation.

Regulation Affected: 30 CFR 75.503 [18.41(f) of Part 18].

Summary of Findings: Petitioner's proposal is to use permanently installed spring-loaded locking devices to secure battery plugs on mobile battery-powered machines to prevent unintentional loosening of the battery plugs from battery receptacles, and to eliminate the potential hazards associated with difficult removal of padlocks during emergency situations. This is considered an acceptable alternative method for the No. 4 Mine. MSHA grants the petition for modification for the No. 4 Mine with conditions.

Docket No.: M-2002-033-C.

FR Notice: 67 FR 19285.

Petitioner: Grace Mining, Inc.

Regulation Affected: 30 CFR 75.503 [18.41(f) of Part 18].

Summary of Findings: Petitioner's proposal is to use permanently installed spring-loaded locking devices to secure battery plugs on mobile battery-powered machines to prevent unintentional loosening of the battery plugs from battery receptacles, and to eliminate the potential hazards associated with difficult removal of padlocks during emergency situations. This is considered an acceptable alternative method for the No. 4 Mine. MSHA grants the petition for modification for the No. 4 Mine with conditions.

Docket No.: M-2002-037-C.

FR Notice: 67 FR 19286.

Petitioner: Rivers Edge Mining, Inc.

Regulation Affected: 30 CFR 75.503 [18.41(f) of Part 18].

Summary of Findings: Petitioner's proposal is to use a threaded ring and a spring-loaded device in lieu of a padlock on all battery-plug connectors on mobile battery-powered machines used inby the last open crosscut to prevent the plug connector from accidentally disengaging while under load; to install warning tags stating “Do Not Disengage Plugs Under Load” on all battery plug connectors on the battery-powered machines; and to instruct all persons who operate or maintain the battery-powered machines on the safe practices and provision for compliance with its proposed alternative method. This is considered an acceptable alternative method for the Rivers Edge Mine. MSHA grants the petition for modification for the use of permanently installed spring-loaded locking devices in lieu of battery plugs at the Rivers Edge Mine with conditions.

Docket No.: M-2002-038-C.

FR Notice: 67 FR 19286.

Petitioner: Coastal Coal-West Virginia, LLC.

Regulation Affected: 30 CFR 75.1002.

Summary of Findings: Petitioner's proposal is to use continuous mining machines with nominal voltage power circuits not to exceed 2,400 volts at its Mine No. 4A East. This is considered an acceptable alternative method for the Mine No. 4A East. MSHA grants the petition for modification for the use of 2,400 volt continuous miners at the Mine No. 4A East with conditions.

Docket No.: M-2002-040-C.

FR Notice: 67 FR 31835.

Petitioner: Cook & Sons Mining, Inc.

Regulation Affected: 30 CFR 75.503 [18.41(f) of Part 18].

Summary of Findings: Petitioner's proposal is to use permanently installed spring-loaded locking devices to secure battery plugs on mobile battery-powered machines to prevent unintentional loosening of the battery plugs from battery receptacles, and to eliminate the potential hazards associated with difficult removal of padlocks during emergency situations. This is considered an acceptable alternative method for the Spring Branch Mine #2, Nu Enterprise Mine, and the UZ Mine. MSHA grants the petition for modification for use at the Spring Branch #2 Mine, Nu Enterprise Mine, and the UZ Mine with conditions.

Docket No.: M-2001-031-C.

FR Notice: 66 FR 30232.

Petitioner: Aracoma Coal Company, Inc.

Regulation Affected: 30 CFR 75.503 [18.41(f) of Part 18].

Summary of Findings: Petitioner's proposal is to use a threaded ring and a spring-loaded device instead of padlocks on mobile battery-powered machines to prevent the plug connector from accidentally disengaging while under load; to place warning tags on all battery connectors; and instruct all battery machine operators on the safe practices and compliance with its alternative method. This is considered an acceptable alternative method for the Hernshaw Mine. MSHA grants the petition for modification for the Hernshaw Mine with conditions.

Docket No.: M-2001-032-C.

FR Notice: 66 FR 30232.

Petitioner: Aracoma Coal Company, Inc.

Regulation Affected: 30 CFR 75.503 [18.41(f)) of Part 18].

Summary of Findings: Petitioner's proposal is to use a threaded ring and a spring loaded device instead of padlocks on battery connectors on mobile battery-powered machines used inby the last open crosscut to prevent the plug connector from accidentally disengaging while under load; to place warning tags stating “Do Not Disengage Plugs Under Load” on all battery connectors; and instruct all battery machine operators on the safe practices and compliance with its alternative method. This is considered an acceptable alternative method for the Aracoma Alma No. 1 Mine. MSHA grants the petition for modification for the Aracoma Alma No. 1 Mine with conditions.

Docket No.: M-2001-034-C.

FR Notice: 66 FR 30233.

Petitioner: Newtown Energy, Inc.

Regulation Affected: 30 CFR 75.503 [18.41(f) of Part 18].

Summary of Findings: Petitioner's proposal is to use permanently installed spring-loaded devices instead of padlocks on battery plugs on mobile battery-powered machines to prevent the threaded ring from unintentional loosening while under load, to place warning tags stating “Do Not Disengage Plugs Under Load” on all battery connectors on the battery-powered equipment, and to provide instructions to all persons on the safe practices and provisions for compliance when operating and maintaining the battery-powered machines. This is considered an acceptable alternative method for the Eagle Mine No. 1. MSHA grants the petition for modification for the Eagle Mine No. 1 with conditions.

Docket No.: M-2001-035-C.

FR Notice: 66 FR 30233.

Petitioner: Twentymile Coal Company.

Regulation Affected: 30 CFR 75.901(a).

Summary of Findings: Petitioner's proposal is to amend Paragraph 1 of the Proposed Decision and Order for its granted petition for modification, docket number M-1998-056-C, to include moving equipment from section to section within the mine and to perform temporary work in areas outby section loading points; and amend Paragraph 12 to allow 995-volt mobile equipment with cable reels to use either SHD-GC or 2,000-volt rated cables instead of only a SHD-GC cable. This is considered an acceptable alternative method for the Foidel Creek Mine. MSHA grants the petition for modification for the Foidel Creek Mine with conditions.

Docket No.: M-2001-036-C.

FR Notice: 66 FR 30233.

Petitioner: Twentymile Coal Company.

Regulation Affected: 30 CFR 75.701.

Summary of Findings: Petitioner's proposal is to use an alternate method of compliance for grounding of its diesel generator to provide power to electric powered equipment used to travel through the mine and to haul equipment and supplies. The petitioner proposes to ground the portable diesel generator to a low ground field and incorporate a ground fault system for the power circuits that would deenergize the mining equipment if a phase to frame fault occurs. This is considered an acceptable alternative method for the Foidel Creek Mine. MSHA grants the petition for modification for the Foidel Creek Mine with conditions.

Docket No.: M-2001-057-C.

FR Notice: 66 FR 34465.

Petitioner: Turris Coal Company.

Regulation Affected: 30 CFR 77.214(a).

Summary of Findings: Petitioner's proposal to fill the abandoned exhaust shaft with non-combustible materials and permanently seal it with a reinforced concrete cap, covering the cap and shaft with soil and up to 60 feet of coarse coal refuse during the expansion of North Coarse Refuse Pile, MSHA ID No. 1211-IL08-02664-05. This is considered an acceptable alternative method for the Elkhart Mine. MSHA grants the petition for modification for the Elkhart Mine with conditions.

Docket No.: M-2001-063-C.

FR Notice: 66 FR 38748.

Petitioner: Kentucky May Coal Company, Inc.

Regulation Affected: 30 CFR 77.214(a).

Summary of Findings: Petitioner's proposal is to fill its Refuse Disposal Fill “A” with refuse generated from its Arnold Fork Preparation Plant. The petitioner states that Refuse Fill “A” is a combined fill being constructed by the structural shell method, and that proposed modifications to Fill “A” to raise the proposed top of the fill from elevation 1700 feet to elevation 1750 feet have been submitted to the Barbourville Regional Office for review and approval. The petitioner submits this petition to supplement the modifications since the proposed top of the fill is now above an abandoned underground mining operation in the Hazard No. 4 Coal Seam which is currently backfilled and the Coal Seam dips toward Face-up No. 2. The petitioner states that a four inch PVC Pipe has been installed in the lowest entry of Face-up No. 2 during backfilling operations to prevent the impoundment of water in the old mine works. The petitioner lists specific procedures in its petition that would be used when the proposed alternative method is implemented. This is considered an acceptable alternative method for the Kentucky May Coal Company's Arnold Fork Preparation Plant. MSHA grants the petition for modification for the Kentucky May Coal Company's Arnold Fork Preparation Plant with conditions.

Docket No.: M-2001-064-C.

FR Notice: 66 FR 38749.

Petitioner: DLR Mining, Inc.

Regulation Affected: 30 CFR 75.350.

Summary of Findings: Petitioner's proposal is to install carbon monoxide sensors as an early warning fire detection system in all belt entries used to course air through the belt entry to ventilate active working places. The sensors would be capable of providing both visual and audible alarm signals. This is considered an acceptable alternative method for the Nolo Mine. MSHA grants the petition for modification for the Nolo Mine with conditions.

Docket No.: M-2001-073-C.

FR Notice: 66 FR 38750.

Petitioner: Mettiki Coal, LLC.

Regulation Affected: 30 CFR 75.1002.

Summary of Findings: Petitioner's proposal is to use high-voltage (2,400-volts) on its longwall face conveyor circuits and its shearer circuits when new longwall equipment is installed and has been inspected by MSHA, and to request that its previously granted petition, docket number M-98-032-C be revoked. This is considered an acceptable alternative method for the Mettiki Mine. MSHA grants the petition for modification for the 2,400-volt longwall equipment for the Mettiki Mine with conditions.

Docket No.: M-2001-074-C.

FR Notice: 66 FR 38750.

Petitioner: San Juan Coal Company.

Regulation Affected: 30 CFR 75.1726(a).

Summary of Findings: Petitioner's proposal is to use modified scoops to provide an elevated work platform for miners at the San Juan South Mine and the San Juan Deep Mine. This is considered an acceptable alternative method for the San Juan South Mine and the San Juan Deep Mine. MSHA grants the petition for modification for the San Juan South Mine and the San Juan Deep Mine with conditions. MSHA grants application for Relief to Give Effect to May 22, 2002.

Docket No.: M-2001-077-C.

FR Notice: 66 FR 41891.

Petitioner: San Juan Coal Company.

Regulation Affected: 30 CFR 75.804.

Summary of Findings: Petitioner's proposal is to use 4,160-volt cables for longwall equipment, with a symmetrical 3/C, 3/G, and 1/GC construction and a ground check conductor not smaller than a No. 16 (AWG). The high-voltage cables would be Cablec Anaconda brand 5KV 3/C type SHD+GC or similar 5,000-volt cable with a center ground check conductor, but otherwise manufactured to the ICEA Standard S-75-381 for Type SHD, three-conductor cables. The petitioner asserts that the cables would be MSHA accepted flame-resistant. This is considered an acceptable alternative method for the San Juan South Mine. MSHA grants the petition for modification for the San Juan South Undergound Mine with conditions. The petitioner's request for 30 CFR 75.804 for the San Juan Deep Mine is dismissed.

Docket No.: M-2001-087-C.

FR Notice: 66 FR 52155.

Petitioner: Maple Creek Mining, Inc.

Regulation Affected: 30 CFR 75.804(a).

Summary of Findings: Petitioner's proposal is to use a high-voltage, MSHA-accepted, flame-resistant cable with an internal ground check conductor smaller that No. 10 AWG and to provide training to all qualified electrical personnel before implementing its proposal. This is considered an acceptable alternative method for the High Quality Mine. MSHA grants the petition for modification for the use of high-voltage cables for high-voltage longwall equipment at the Maple Creek Mining, Inc., High Quality Mine longwall system with conditions. The high-voltage cables shall be 5KV, 3/C type SHD-GC or similar 5,000-volt cable with a center ground check conductor, but otherwise manufactured to the ICEA Standard S-75-381 for Type SHD, three-conductor cables, and MSHA-accepted flame-resistant. The cable construction shall be symmetrical 3/C, 3/G, and 1/GC. The ground check conductor shall not be smaller than a No. 16 AWG stranded conductor, and hands-on training shall be provided to all qualified electrical personnel who perform maintenance on the longwall equipment before the alternative method is implemented.

Docket No.: M-2001-089-C.

FR Notice: 66 FR 52155.

Petitioner: Maple Creek Mining, Inc.

Regulation Affected: 30 CFR 75.1700.

Summary of Findings: Petitioner's proposal is to plug and mine through oil and gas wells. This is considered an acceptable alternative method for the High Quality Mine. MSHA grants the petition for modification for the High Quality Mine with conditions.

Docket No.: M-2001-092-C.

FR Notice: 66 FR 52155.

Petitioner: 3-D Management Services, Inc.

Regulation Affected: 30 CFR 75.503 [18.41(f) of Part 18].

Summary of Findings: Petitioner's proposal is to use a threaded ring and a spring-loaded locking device instead of a padlock on mobile battery-powered machines to prevent the plug connector from accidentally disengaging while under load. This is considered an acceptable alternative method for the Tiny Creek No. 2 Mine. MSHA grants the petition for modification for the use of permanently installed spring-loaded locking devices in lieu of padlocks on battery plugs at the Tiny Creek No. 2 Mine with conditions.

Docket No.: M-2001-097-C.

FR Notice: 66 FR 52156.

Petitioner: American Energy Corporation.

Regulation Affected: 30 CFR 75.1700.

Summary of Findings: Petitioner's proposal is to plug and mine through oil and gas wells at the Century Mine using specific procedures outlined in its petition for modification. This is considered an acceptable alternative method for the Century Mine. MSHA grants the petition for modification for mining through or near (whenever the safety barrier diameter is reduced to a distance less than the District Manager would approve pursuant to Section 75.1700) plugged oil or gas wells penetrating the Pittsburgh No. 8 Coal Seam and other mineable coal seams at the Century Mine with conditions.

Docket No.: M-2001-101-C.

FR Notice: 66 FR 64992.

Petitioner: Canyon Fuel Company, LLC.

Regulation Affected: 30 CFR 75.500(d).

Summary of Findings: Petitioner's proposal is to use the following non-permissible low-voltage or battery powered electronic testing and diagnostic equipment inby the last open crosscut: lap top computers, oscilloscopes, vibration analysis machines, cable fault detectors, point temperature probes, infrared temperature devices and recorders, pressure and flow measurement devices, signal analyzer devices, ultrasonic thickness gauges, electronic component testers, and electronic tachometers, and to use other testing and diagnostic equipment if approved by the District Office. The petitioner states that all other test and diagnostic equipment use in or inby the last open crosscut will be permissible. The petitioner has listed in this petition for modification specific procedures that would be followed when using this equipment. This is considered an acceptable alternative method for the Dugout Canyon Mine. MSHA grants the petition for modification for the use of low voltage or battery powered non-permissible electronic testing and diagnostic equipment in or inby the last open crosscut, under controlled conditions, for testing and diagnosing the mining equipment at the Dugout Canyon Mine with conditions.

Docket No.: M-2001-102-C.

FR Notice: 66 FR 64993.

Petitioner: Canyon Fuel Company, LLC.

Regulation Affected: 30 CFR 75.1002-1(a).

Summary of Findings: Petitioner's proposal is to use the following non-permissible low-voltage or battery powered electronic testing and diagnostic equipment inby the last open crosscut: lap top computers, oscilloscopes, vibration analysis machines, cable fault detectors, point temperature probes, infrared temperature devices and recorders, pressure and flow measurement devices, signal analyzer devices, ultrasonic thickness gauges, electronic component testers, and electronic tachometers, and may use other testing and diagnostic equipment if approved by the District Office. The petitioner states that all other test and diagnostic equipment used in or inby the last open crosscut will be permissible. This is considered an acceptable alternative method for the Dugout Canyon Mine. MSHA grants the petition for modification for the use of low-voltage or battery-powered non-permissible electronic testing and diagnostic equipment within 150 feet of pillar workings, for testing and diagnosing the mining equipment, under controlled conditions at the Dugout Canyon Mine with conditions.

Docket No.: M-2001-107-C.

FR Notice: 67 FR 1368.

Petitioner: Ohio County Coal Company, Inc.

Regulation Affected: 30 CFR 75.1700.

Summary of Findings: Petitioner's proposal is to mine through oil and gas wells located within an approved mining area using the specific procedures outlined in its petition for modification. This is considered an acceptable alternative method for the Freedom Mine. MSHA grants the petition for modification with conditions, for mining through or near (whenever the safety barrier diameter is reduced to a distance less than the District Manager would approve pursuant to Section 75.1700) plugged oil or gas wells penetrating the Western Kentucky No. 9 seam and other mineable coal seams for the Freedom Mine.

Docket No.: M-2001-108-C.

FR Notice: 67 FR 1368.

Petitioner: Addington, Inc.

Regulation Affected: 30 CFR 75.503 [18.41(f) of Part 18].

Summary of Findings: Petitioner's proposal is to use a spring-loaded locking device instead of a padlock on mobile battery-powered equipment to prevent unintentional loosening of battery plugs from battery receptacles to eliminate the hazards associated with difficult removal of padlocks during emergency situations. This is considered an acceptable alternative method for the Pond Creek No. 1 Mine. MSHA grants the petition for modification for the use of permanently installed spring-loaded locking devices in lieu of padlocks on battery plugs at the Pond Creek Mine No. 1 with conditions.

Docket No.: M-2001-115-C.

FR Notice: 66 FR 67551.

Petitioner: Centralia Mining.

Regulation Affected: 30 CFR 75.1200 (d) and (i).

Summary of Findings: Petitioner's proposal is to use cross-sections instead of contour lines through the intake slope, at locations of rock tunnel connections between veins, and at 1,000 foot intervals of advance from the intake slope; and to limit the required mapping of the mine workings above and below to those present within 100 feet of the vein being mined except when veins are interconnected to other veins beyond the 100-foot limit through rock tunnels. The petitioner asserts that due to the steep pitch encountered in mining anthracite coal veins, contours provide no useful information and their presence would make portions of the map illegible. The petitioner further asserts that use of cross-sections in lieu of contour lines has been practiced since the late 1800's thereby providing critical information relative to the spacing between veins and proximity to other mine workings which fluctuate considerably. This is considered an acceptable alternative method for the Skidmore Slope Mine. MSHA grants the petition for modification for the Skidmore Slope Mine with conditions.

Docket No.: M-2001-116-C.

FR Notice: 66 FR 67551.

Petitioner: Centralia Mining.

Regulation Affected: 30 CFR 75.1202-1(a).

Summary of Findings: Petitioner's proposal is to revise and supplement mine maps annually instead of every 6 months as required, and to update maps daily by hand notations. The petitioner also proposes to conduct surveys prior to commencing retreat mining and whenever either a drilling program under 30 CFR 75.388 or plan for mining into inaccessible areas under 30 CFR 75.389 is required. This is considered an acceptable alternative method for the Skidmore Slope Mine. MSHA grants the petition for modification for annual revisions and supplements of the mine map at the Skidmore Slope Mine with conditions.

Docket No.: M-2001-117-C.

FR Notice: 66 FR 67551.

Petitioner: Centralia Mining.

Regulation Affected: 30 CFR 75.1400(c).

Summary of Findings: Petitioner's proposal is to use a slope conveyance (gunboat) in transporting persons without installing safety catches or other no less effective devices but instead use increased rope strength and secondary rope connection in place of such devices. This is considered an acceptable alternative method for the Skidmore Slope Mine. MSHA grants the petition for modification for the use of the hoist conveyance (gunboat) without safety catches at the Skidmore Slope Mine with conditions.

Docket No.: M-2001-120-C.

FR Notice: 66 FR 67552.

Petitioner: White County Coal, L.L.C.

Regulation Affected: 75.901(a).

Summary of Findings: Petitioner's proposal is to use a 200KW, 480-volt, diesel powered generator set with an approved diesel drive engine to power electrical equipment that would only move equipment in, out, and around the mine and to perform work in areas outby section loading points where equipment is not required to be maintained as permissible. This is considered an acceptable alternative method for the Pattiki Mine II. MSHA grants the petition for modification for the 480-volt, three-phase, 200KW diesel powered generator (DPG) set, supplying power to a 250 KVA three-phase transformer and three-phase 480- and 995-volt power circuits at the Pattiki Mine II with conditions.

Docket No.: M-1999-035-C.

FR Notice: 64 FR 32552.

Petitioner: Sea “B” Mining Company.

Regulation Affected: 30 CR 75.1710-1(a).

Summary of Findings: Petitioner's proposal is to amend the Proposed Decision and Order for its previously granted petition, docket number M-98-033-C, to include the following equipment: three center-driven Joy 21SC shuttle cars, Serial Nos. ET10956, ET11195, ET14880; Long Airdox Scoop 482, Serial No. 482-2229; and Fletcher Roof Bolting Machine, Model RRII-15 W/T-Bar ATRS, Serial No. 96053. The petitioner asserts that using canopies on this equipment in mining heights less that 46 inches would result in a diminution of safety to the miners. This is considered an acceptable alternative method for the Silver Creek Mine. MSHA grants the petition for modification for the Silver Creek Mine with conditions.

Docket No.: M-2001-001-M.

FR Notice: 66 FR 9725.

Petitioner: New Tech Oil Company.

Regulation Affected: 30 CFR 57.11050.

Summary of Findings: Petitioner's proposal is to use its hoist and ladder man-way as two separate escapeways. This is considered an acceptable alternative method for the North Tisdale Shaft #1 Mine. MSHA grants the petition for modification for the North Tisdale Shaft #1 Mine with conditions.

Docket No.: M-2001-002-M.

FR Notice: 66 FR 9725.

Petitioner: New Tech Oil Company.

Regulation Affected: 30 CFR 57.19054.

Summary of Findings: Petitioner's proposal is to use bridge strand wire rope in lieu of locked coil wire rope on the mine hoist. This is considered an acceptable alternative method for the North Tisdale Shaft No. 1 Mine. MSHA grants the petition for modification for the North Tisdale Shaft No. 1 Mine with conditions.

[FR Doc. 02-28918 Filed 11-13-02; 8:45 am]

BILLING CODE 4510-43-P